DEPARTMENT OF HEALTH AND HUMAN SERVICES

Centers for Disease Control and Prevention

[60 Day-10-10CV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road, NE., MS-D74, Atlanta, Georgia 30333; comments may also be sent by e-mail to omb@cdc.gov.

Comments are invited on (a) Whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

Early Aberration Reporting System (EARS) Registration Module—New—National Center for Emerging and Zoonotic Infectious Diseases (NCEZID) (proposed), Centers for Disease Control and Prevention (CDC).

Background and Brief Description

To support two of CDC's main priority areas: (1) Improving CDC's support for state and local health departments, and (2) strengthening surveillance and epidemiology, CDC is requesting approval from the Office of Management and Budget (OMB) to improve the Early Aberration Reporting System (EARS) by collecting data from individuals who request a download of EARS from the CDC website.

The Early Aberration Reporting System, developed within the Division of Bioterrorism Preparedness and Response, is a web-enabled tool that analyzes public health surveillance data using methods that detect abnormal trends that could possibly indicate an outbreak of infectious disease. The local public health professionals manage the entire tool and can implement the defaults or can adjust the tool in order to meet their local needs. The goal of this process is to assist public health professionals in the early identification of outbreaks of disease as well as bioterrorism events. EARS is used to assess whether the current number of reported cases of an event is higher than usual.

The term syndromic surveillance is used to describe surveillance that uses health-related data that precede diagnosis and that signals a sufficient probability of a case or an outbreak of infectious disease to warrant further public health response. Syndromic surveillance systems are used by state, local, national and international health departments to monitor syndrome-based (e.g., case information collected in emergency departments (EDs) and diagnostic data sources for early detection of outbreaks and other public health events). More recently these systems are used during public health responses to provide more rapid near real-time situational awareness regarding the health status of the target population. EARS was the first software platform to support local syndromic surveillance systems. EARS has been designed and used to monitor syndromic data from emergency departments, 911 calls, physician office data, school and business absenteeism, over-the-counter drug sales, laboratory testing and results data and reportable disease surveillance systems. In the past several years, EARS systems have been integral in the local public health surveillance arsenal. EARS has been used at events such as the Beijing Summer Olympics; multiple Superbowls (football) and World Series (baseball); the political conventions of both major US political parties; and the Presidential Inauguration (2009).

Today, EARS is a highly successful and sustainable system and has over 200 users at the Federal, State, local, and international levels. These users include international Ministries of Health and domestic state and local public health departments. Additionally, EARS detection methods have been integrated in well-known surveillance platforms such as BioSense at CDC, ESSENSE at Johns Hopkins, NAMRD at US Department of Defense, and Emergint at Northrop Grumman.

EARS is widely-accepted and easily sustainable due to its being free to all end users, the capacity to use multiple forms of data, flexibility and user-driven design and maintenance. EARS is a service provided by CDC as share-ware and is available by download at no cost from the CDC Web site http://www.bt.cdc.gov/surveillance/EARS.

In an effort to continue to improve and enhance EARS, the collection of registration information is needed to track users and organizations to assist in future needs assessments. Requiring the users to register will provide CDC with contact information (i.e., e-mail addresses) to use for broadcast e-mails regarding new releases for upgrades and enhancements; track the number of users, the download frequency, and the type of data that users will monitor with EARS; and solicit users for feedback for future upgrades and enhancements. CDC estimates that there will be 150 respondents registered for EARS. Each respondent will need an average of 10 minutes to complete the EARS registration form which leads to a total public burden of 25 hours.

There is no cost to respondents to participate in this program.

Estimate of Annualized Burden Hours
Respondents | Number of respondents | Number of responses per respondent | Average burden per response (in hours) | Total burden (in hours)
Users | 150 | 1 | 10/60 | 25

Dated: April 21, 2010.
Maryam I. Daneshvar,
Acting Reports Clearance Officer, Centers for Disease Control and Prevention.

[FR Doc. 2010-10586 Filed 5-4-10; 8:45 am]

BILLING CODE 4163-18-P